NUCLEAR REGULATORY COMMISSION

10 CFR Part 72

RIN 3150-AG58

List of Approved Spent Fuel Storage Casks: HI-STAR 100 Revision; Correction

AGENCY: Nuclear Regulatory Commission.

ACTION: Direct final rule: Correction.

SUMMARY: This document corrects a direct final rule appearing in the Federal Register on October 11, 2000 (65 FR 60339), that revises the Holtec International HI-Star 100 cask system listing within the “List of approved spent fuel storage casks” to include Amendment No. 1 to the Certificate of Compliance. This action is necessary to correct a typographical error.

EFFECTIVE DATE: If there are no adverse comments received, the direct final rule is effective on December 26, 2000.

FOR FURTHER INFORMATION CONTACT: Michael T. Lesar, Federal Register Liaison Officer, telephone (301) 415-7163.

SUPPLEMENTARY INFORMATION: On page 60339, in the second column, in the Addresses section, in the third paragraph, in the third line, the website address should be “http://ruleforum.llnl.gov.”

Dated at Rockville, Maryland, this 13th day of December 2000.
For the Nuclear Regulatory Commission.
Michael T. Lesar,
Federal Register Liaison Officer.

[FR Doc. 00-32304 Filed 12-18-00; 8:45 am]

BILLING CODE 7590-01-P